DEPARTMENT OF AGRICULTURE

Natural Resources Conservation Service

Clarke County Water Supply Project, Clarke County, IA

AGENCY: Natural Resources Conservation Service, USDA.

ACTION: Notice of intent to prepare an Environmental Impact Statement.

SUMMARY: Pursuant to section 102(2)(C) of the National Environmental Policy Act (NEPA) of 1969; the Council on Environmental Quality Guidelines (40 CFR part 1500); and the Natural Resources Conservation Service Guidelines (7 CFR part 650); the Natural Resources Conservation Service, U.S. Department of Agriculture gives notice that an environmental impact statement (EIS) is being prepared for the Clarke County Water Supply Project, Clarke County, Iowa.

FOR FURTHER INFORMATION CONTACT: Richard Van Klaveren, State Conservationist, or David Beck, Planning Leader, 210 Walnut Street, Room 693, Des Moines, IA 50309-2180.

SUPPLEMENTARY INFORMATION: The environmental evaluation of this Federally assisted action indicates that the project may cause significant local, regional, or national impacts on the environment. As a result of these findings, Richard Van Klaveren, NRCS State Conservationist, has determined that the preparation and review of an environmental impact statement (EIS) is needed for this project.

This project involves the development of a plan to develop a multipurpose watershed plan near Osceola in southern Iowa. The Clarke County Water Supply project area is 32,946 acres northwest of Osceola including the upper portions of both Squaw Creek Watershed and South Squaw Creek Watershed.

The Clarke County Reservoir Commission is the project sponsor. The Commission includes members from the following entities: Cities of Murray, Osceola, and Woodburn; Osceola Water Board, Clarke County Board of Supervisors, Clarke County Conservation Board, Clarke County Soil and Water Conservation District, Clarke County Development Corporation, and Southern Iowa Rural Water Association.

The sponsors' main purposes are to develop a lake that will serve as a regional water supply and provide water-based recreation. Other objectives include fish and wildlife habitat development, agricultural pollution control, and water-based recreation.

The NRCS planning assistance is being provided under the authority of the Watershed Protection and Flood Prevention Act, Public Law 83-566. The NRCS has initiated studies to determine the extent of natural resource problems and needs in accordance with the sponsors' objectives.

The NRCS studies indicate that the sponsors' objectives of water supply, water-based recreation, fish and wildlife development, and agricultural pollution control are likely to be economically feasible. Additional study for these project purposes will be completed.

Five study sites on the main channel of North Squaw Creek were initially identified for possible multiple-purpose reservoir sites. An interdisciplinary team field review was conducted in 2004. Two study sites were dropped from further consideration in January, 2005, after it was determined that the sites provided insufficient water during dry periods to meet current and future water demands projected for the community of 3 million gallons per day. A preliminary alternative plan is being developed at each of the three remaining study sites. The three preliminary alternatives include permanent pool sizes of 590 acres, 692 acres, and 836 acres respectively.

Each of the three alternative plans that is carried through detailed planning will be compared against a no action plan as a basis to determine effects. The sponsors will select an alternative plan based on the effects, economic evaluation, and the extent that it meets their objectives. The project will include one multi-purpose reservoir with the purposes of water supply and water-based recreation. Fish and wildlife habitat development will be planned as a part of the reservoir and adjacent lands acquired for recreation, mitigation if required, and other public purposes. Best management practices may be included in the planned project in order to further protect both the new surface water supply and West Lake, which serves as the current water supply source for Osceola and rural water. West Lake is located on South Squaw Creek about two miles west of Osceola and is in the project area.

An open house informational meeting was held in Osceola on December 1, 2004, to initiate the planning process and obtain public input. State and federal agencies, private organizations, and local individuals were invited to a scoping meeting on March 15, 2006. The public input received from these meetings and at meetings of the Clarke County Reservoir Commission will be considered as a draft Environmental Impact Statement is developed. The periodic meetings of the Commission as well as individual member sponsor meetings are open to the public and provide opportunity for citizen input.

Preliminary issues: Among the issues that the NRCS plans to consider in the scope of the EIS analysis are:

—Environmental, economic, and social impacts of the alternatives. Major categories are listed below.

Soil erosion; Flooding; Recreation; Water quantity/supply; Water quality; Cultural resources; Natural Areas ; Prime farmland; Agricultural/other rural land; Threatened and Endangered species; Wetlands; Fish and Wildlife habitat; Air quality.

—Costs and benefits of the alternatives will be studied.

—The Cumulative Impacts of federal action will be evaluated.

The Clarke County Water Supply Watershed Project Draft EIS will be developed and published in the Federal Register with a target date of February 1, 2007. A 45 day comment period will be available for the public to provide comments. A 30 day comment period will be available following publication of the final EIS. A meeting will be held in the Osceola area near the date of the draft EIS publication to inform the public about the draft watershed plan-EIS and to obtain comments.

The draft watershed plan—EIS will be prepared and circulated for review by agencies and the public. This review will be conducted concurrently with the publication of the draft EIS in the Federal Register. The Natural Resources Conservation Service invites participation and consultation of public agencies, any affected Indian tribe, and individuals who have special expertise, legal jurisdiction, or interest in providing data for consideration in preparing the draft EIS. Comments and other input received will be considered in plan development. Further information on the proposed action may be obtained from David Beck, Planning Leader, at the above address. This Federal Register Notice will also be available at the Iowa NRCS Web site at http://www.ia.nrcs.usda.gov. A map of the Clarke County Water Supply proposed study sites will also be posted.

Dated: April 12, 2006.
Richard Van Klaveren,
State Conservationist.

[FR Doc. E6-5869 Filed 4-18-06; 8:45 am]

BILLING CODE 3410-16-P